DEPARTMENT OF HOMELAND SECURITY

Federal Emergency Management Agency

Open Meeting of the Federal Interagency Committee on Emergency Medical Services (FICEMS)

AGENCY: Federal Emergency Management Agency (FEMA), Department of Homeland Security.

ACTION: Notice of open meeting.

SUMMARY: FEMA announces the following open meeting.

Name: Federal Interagency Committee on Emergency Medical Services (FICEMS).

Date of Meeting: March 2, 2006.

Place: 10th Floor MacCracken Room, FAA Building, 800 Independence Ave SW., Washington, DC 20591.

Times: 10:30 a.m.—Main FICEMS Meeting; 1 p.m.—FICEMS Ambulance Safety Subcommittee.

Proposed Agenda: Review and submission for approval of previous FICEMS Committee Meeting Minutes; Ambulance Safety Subcommittee Meeting Minutes; Action Items review; presentation of member agency reports; and reports of other interested parties.

SUPPLEMENTARY INFORMATION: This meeting will be open to the public with limited seating available on a first-come, first-served basis. See the Response and Security Procedures below.

Response Procedures: Committee Members and members of the general public who plan to attend the meeting should contact Mr. Mike McKay, on or before Tuesday, February 28, 2006, via mail at NATEK Incorporated, 21355 Ridgetop Circle, Suite 200, Dulles, Virginia 20166-8503, or by telephone at (703) 674-0190, or via facsimile at (703) 674-0195, or via e-mail at mmckay@natekinc.com. This is necessary to be able to create and provide a current roster of visitors to FAA Security per directives.

Security Procedures: All visitors must have a valid picture identification card and their vehicles will be subject to search by Security personnel. All visitors will be issued a visitor pass which must be worn at all times while in the facility. Please allow adequate time before the meeting to complete the security process.

Conference Call Capabilities: If you are not able to attend in person, a toll free number has been set up for teleconferencing. The toll free number will be available from 10 a.m. until 4 p.m. Members should call in around 10:30 a.m. The number is 1-800-320-4330. The FICEMS conference code is “361352#,” which is different.

FICEMS Meeting Minutes: Minutes of the meeting will be prepared and will be available upon request 30 days after they have been approved at the next FICEMS Committee Meeting. The minutes will also be posted on the United States Fire Administration Web site at http://www.usfa.fema.gov/fire-service/ems/ficems.shtm within 30 days after their approval at the next FICEMS Committee Meeting.

Dated: February 23, 2006.
R. David Paulison,
Acting Director, Federal Emergency Management Agency, Department of Homeland Security.

[FR Doc. E6-2718 Filed 2-24-06; 8:45 am]

BILLING CODE 9110-17-P